DEPARTMENT OF LABOR

Mine Safety and Health Administration

Petitions for Modification

The following parties have filed petitions to modify the application of existing safety standards under section 101(c) of the Federal Mine Safety and Health Act of 1977.

1. Snyder Coal Company

[Docket No. M-2005-007-C]

Snyder Coal Company, 66 Snyder Lane, Hegins, Pennsylvania 17938 has filed a petition to modify the application of 30 CFR 77.403(a) (Mobile equipment; rollover protective structures (ROPS) to its N & L Slope Mine (MSHA I.D. No. 36-02203) located in Northumberland County, Pennsylvania. The petitioner requests a modification of the existing standard to permit the Case Front End Loader, Model W26B, S/N No. 9107513 to be used at the N & L Slope Mine without being equipped with rollover protection structures (ROPS). The petitioner asserts that the proposed alternative method would provide at least the same measure of protection as the existing standard.

2. Ohio Valley Coal Company (The)

[Docket No. M-2005-008-C]

Ohio Valley Coal Company (The), 56854 Pleasant Ridge Road, Alledonia, Ohio 43902 has filed a petition to modify the application of 30 CFR 75.380 (Escapeways; bituminous and lignite mines) to its Powhatan No. 6 Mine (MSHA I.D. No. 33-01159) located in Belmont County, Ohio. Due to deteriorating roof conditions throughout the portion of Main North which extends from the junction of A-West Submain to the Portal of Hope, the petitioner proposes to mine and/or rehabilitate a set of entries parallel to the existing Main North entries. The petitioner states that the majority of the development will consist of rehabilitation of existing entries and crosscuts, and some extraction of coal in areas between the existing gate sections. The petitioner will use specific terms and conditions listed in this petition when the proposed alternative method is implemented. The petitioner asserts that the proposed alternative method would provide at least the same measure of protection as the existing standard.

3. Eastern Associated Coal Corporation

[Docket No. M-2005-009-C]

Eastern Associated Coal Corporation, P.O. Box 148, Graham, Kentucky 42344 has filed a petition to modify the application of 30 CFR 77.214(a) (Refuse file; general) to its Kopperston Preparation Plant (MSHA I.D. No. 46-03157) located in Wyoming County, West Virginia. The petitioner proposes to backfill four (4) existing mine openings associated with the Longbranch Energy Mine No. 20, with non-acid producing soil. The soil will extend approximately 25 feet into the mine and at least 4 feet in all directions beyond the limits of the mine opening. The petitioner also proposes to cover any exposed coal seam along the mine bench with soil to at least 4 feet above the coal seam. The petitioner has listed in this petition specific terms and conditions that will be followed when the proposed alternative method is implemented. The petitioner asserts that since the existing mine is abandoned, the proposed alternative method would provide at least the same measure of protection as the existing standard.

4. Thunder Basin Coal Company, LLC

[Docket No. M-2005-010-C]

Thunder Basin Coal Company, LLC, P.O. Box 406, Wright, Wyoming 82732 has filed a petition to modify the application of 30 CFR 77.700-1 (Grounding metallic sheaths, armors, and conduits enclosing power conductors) to its Black Thunder Mine (MSHA I.D. No. 48-00977), and Coal Creek Mine (MSHA I.D. No. 48-01215) both located in Campbell County, Wyoming. The petitioner requests a modification of the existing standard to permit an alternative method of compliance for the grounding of a diesel electric generator. The petitioner proposes to use a portable diesel-powered electric generator to electrically power shovels while moving them from point to point around the mine. The petitioner also proposes to use a portable diesel electric generator to provide temporary power to mobile equipment where substations are not readily available and where substations cannot easily be installed without major construction work, and to provide temporary power to stationary loads when utility power is unavailable. The petitioner asserts that the proposed alternative method would provide at least the same measure of protection as the existing standard.

5. Powder River Coal Company

[Docket No. M-2005-011-C]

Powder River Coal Company, 1013 E. Boxelder Road, Caller Box 3034, Gillette, Wyoming 82717-3034 has filed a petition to modify the application of 30 CFR 77.700-1 (Grounding metallic sheaths, armors, and conduits enclosing power conductors) to its North Antelope/Rochelle Mine (MSHA I.D. No. 48-01353), Caballo Mine (MSHA I.D. No. 48-01034), and Rawhide Mine (MSHA I.D. No. 48-00993) all located in Campbell County, Wyoming. The petitioner requests a modification of the existing standard to permit an alternative method of compliance for the grounding of a diesel electric generator. The petitioner proposes to use a portable diesel powered electric generator for temporary power and/or to move electrically powered mining equipment in and around the mine. The petitioner asserts that application of the existing standard would result in a diminution of safety to the miners, and that the proposed alternative method would provide at least the same measure of protection as the existing standard.

6. Goodin Creek Mining Company, Inc.

[Docket No. M-2005-012-C]

Goodin Creek Mining Company, Inc., has filed a petition to modify the application of 30 CFR 75.342 (Methane monitors) to its Mine #2 (MSHA I.D. No. 15-18606) located in Whitley County, Kentucky. The petitioner proposes to use hand-held continuous-duty methane and mounted methane monitors on three-wheel tractors with drag bottom buckets. The petitioner states that the operator will be qualified in the proper use of the detector. The petitioner asserts that the proposed alternative method would provide at least the same measure of protection as the existing standard.

Request for Comments

Persons interested in these petitions are encouraged to submit comments via Federal eRulemaking Portal: http://www.regulations.gov; e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before April 15, 2005. Copies of these petitions are available for inspection at that address.

Dated in Arlington, Virginia this 11th day of March, 2005.
Rebecca J. Smith,
Acting Director, Office of Standards, Regulations, and Variances.

[FR Doc. 05-5185 Filed 3-15-05; 8:45 am]

BILLING CODE 4510-43-P